Proclamation 9444 of May 6, 2016

Mother's Day, 2016

By the President of the United States of America

A Proclamation

On Mother's Day, we celebrate those who are the first to welcome us into the world. Performing the most important work there is, mothers—biological, foster, or adoptive—are our first role models and earliest motivators. They balance enormous responsibilities and shape who we become as adults, their lessons guiding us throughout life. Regardless of sexual orientation, gender identity, or marital status, mothers have always moved our Nation forward and remained steadfast in their pursuit of a better and brighter future for their children.

Caring and loving without condition, even in our darkest moments, mothers put the interests of their kids ahead of their own. They are inspiring embodiments of strength and determined drivers of progress, and through their example, our youth learn the values of grace, empathy, and kindness. For generations, mothers have led the charge toward a freer, more inclusive country—embracing the task of ensuring our Nation upholds its highest ideals so that they, and America's daughters, know the same opportunities as America's fathers and sons.

Our country's mothers deserve our unwavering support—at home, in the workplace, and throughout our communities. I am committed to empowering working mothers so they do not have to choose between caring for their family and earning their paycheck, and I will continue fighting to ensure those who choose to become mothers are not financially punished for doing so. My Administration has pushed to expand child care and strengthen paid leave, including maternity leave. We will also keep working to close the gender pay gap—a disparity that is contrary to our values as Americans, limits the scope of mothers' futures, and affects those they provide for. And earlier this year, we launched an effort to help low-income mothers and families afford diapers—a basic necessity for babies—by bringing together online retailers, diaper manufacturers, and nonprofits to reduce the high cost of diapers.

Each of us is the son or daughter of a mother. Today, let us pay these extraordinary women the admiration and respect they deserve. And each day, let us thank them for all they have done for us, remember those whose spirits remain with us, and support those who take on the awesome mantle of motherhood.

The Congress, by a joint resolution approved May 8, 1914 (38 Stat. 770), has designated the second Sunday in May each year as “Mother's Day” and requested the President to call for its appropriate observance.

NOW, THEREFORE, I, BARACK OBAMA, President of the United States of America, do hereby proclaim May 8, 2016, as Mother's Day. I urge all Americans to express love and gratitude to mothers everywhere, and I call upon all citizens to observe this day with appropriate programs, ceremonies, and activities.

IN WITNESS WHEREOF, I have hereunto set my hand this sixth day of May, in the year of our Lord two thousand sixteen, and of the Independence of the United States of America the two hundred and fortieth.

[FR Doc. 2016-11299

Filed 5-10-16; 11:15 am]

Billing code 3295-F6-P